DEPARTMENT OF DEFENSE

Department of the Army; Corps of Engineers

Intent To Prepare an Environmental Impact Statement for a Marine Container Terminal at the Charleston Naval Complex in the City of North Charleston, Charleston County, SC

Correction

In notice document 04-3609 beginning on page 7728 in the issue of Thursday, February 19, 2004, make the following corrections:

1. On page 7728, in the first column, under FOR FURTHER INFORMATION CONTACT, in the seventh line, “CESAC-RE-P” should read, “CESAC-RD-P.”

2. On the same page, in the second column, under SUPPLEMENTARY INFORMATION, in the 17th—19th lines, the second Web site address should read, “http://www.sac.usace.army.mil/newinternet/org/regulatory/index.html#permit.”

[FR Doc. C4-3609 Filed 2-23-04; 8:45 am]

BILLING CODE 1505-01-D